SUSQUEHANNA RIVER BASIN COMMISSION

Public Hearing

AGENCY: Susquehanna River Basin Commission.

ACTION: Notice.

SUMMARY: The Susquehanna River Basin Commission will hold a public hearing on May 11, 2017, in Harrisburg, Pennsylvania. At this public hearing, the Commission will hear testimony on the projects listed in the Supplementary Information section of this notice. The Commission will also hear testimony on a request for waiver by EOG Resources, Inc., as well as proposals to amend its Regulatory Program Fee Schedule and the Comprehensive Plan for the Water Resources of the Susquehanna River Basin. Such projects, request and proposals are intended to be scheduled for Commission action at its next business meeting, tentatively scheduled for June 16, 2017, which will be noticed separately. The public should take note that this public hearing will be the only opportunity to offer oral comment to the Commission for the listed projects, request and proposals. The deadline for the submission of written comments is May 22, 2017.

DATES: The public hearing will convene on May 11, 2017, at 2:30 p.m. The public hearing will end at 5:00 p.m. or at the conclusion of public testimony, whichever is sooner. The deadline for the submission of written comments is May 22, 2017.

ADDRESSES: The public hearing will be conducted at the Pennsylvania State Capitol, Room 8E-B, East Wing, Commonwealth Avenue, Harrisburg, Pa.

FOR FURTHER INFORMATION CONTACT: Jason Oyler, General Counsel, telephone: (717) 238-0423, ext. 1312; fax: (717) 238-2436.

Information concerning the applications for these projects is available at the SRBC Water Resource Portal at www.srbc.net/wrp. Additional supporting documents are available to inspect and copy in accordance with the Commission's Access to Records Policy at www.srbc.net/pubinfo/docs/2009-02_Access_to_Records_Policy_20140115.pdf.

SUPPLEMENTARY INFORMATION: The public hearing will cover a request for waiver of 18 CFR 806.3 AND 806.4 by EOG Resources, Inc., as well as proposed amendments to the Commission's Regulatory Program Fee Schedule and the Comprehensive Plan for the Water Resources of the Susquehanna River Basin, as posted on the SRBC Public Participation Center Web page at www.srbc.net/pubinfo/publicparticipation.htm. The public hearing will also cover the following projects:

Projects Scheduled for Action:

1. Project Sponsor and Facility: Town of Big Flats, Chemung County, N.Y. Application for groundwater withdrawal of up to 0.792 mgd (30-day average) from Well 1-1.

2. Project Sponsor and Facility: Michael and Sandra Buhler (Bennett Branch Sinnemahoning Creek), Huston Township, Clearfield County, Pa. Application for renewal of surface water withdrawal of up to 0.999 mgd (peak day) (Docket No. 20130603).

3. Project Sponsor and Facility: Chesapeake Appalachia, LLC (Susquehanna River), Mehoopany Township, Wyoming County, Pa. Application for renewal of surface water withdrawal of up to 0.999 mgd (peak day) (Docket No. 20130303).

4. Project Sponsor and Facility: Chesapeake Appalachia, LLC (Susquehanna River), Wysox Township, Bradford County, Pa. Application for renewal of surface water withdrawal of up to 0.999 mgd (peak day) (Docket No. 20130304).

5. Project Sponsor and Facility: Chesapeake Appalachia, LLC (Wyalusing Creek), Rush Township, Susquehanna County, Pa. Application for surface water withdrawal of up to 0.715 mgd (peak day).

6. Project Sponsor and Facility: DS Services of America, Inc., Clay Township, Lancaster County, Pa. Application for groundwater withdrawal of up to 0.028 mgd (30-day average) from existing Well 4.

7. Project Sponsor and Facility: DS Services of America, Inc., Clay Township, Lancaster County, Pa. Application for groundwater withdrawal of up to 0.042 mgd (30-day average) from existing Well 5.

8. Project Sponsor and Facility: Ephrata Area Joint Authority, Ephrata Borough, Lancaster County, Pa. Application for modification to request a combined withdrawal limit for Well 1, Cocalico Creek, and Mountain Home Springs of 2.310 mgd (30-day average) (Docket No. 20110902).

9. Project Sponsor and Facility: Equipment Transport, LLC (Susquehanna River), Great Bend Township, Susquehanna County, Pa. Application for renewal of surface water withdrawal of up to 1.000 mgd (peak day) (Docket No. 20130613).

10. Project Sponsor and Facility: Kraft Heinz Foods Company, Town of Campbell, Steuben County, N.Y. Application for renewal of groundwater withdrawal of up to 0.432 mgd (30-day average) from Well 3 (Docket No. 19860203).

11. Project Sponsor and Facility: Mount Joy Borough Authority, Mount Joy Borough, Lancaster County, Pa. Application for modification to request a reduction of the maximum instantaneous rate for Well 3 from the previously approved rate of 1,403 gpm to 778 gpm and revise the passby to be consistent with current Commission policy (Docket No. 20070607). The previously approved withdrawal rate of 1.020 mgd (30-day average) will remain unchanged.

12. Project Sponsor: P.H. Glatfelter Company. Project Facility: Paper/Pulp Mill and Cogen Operations (Codorus Creek), Spring Grove Borough, York County, Pa. Application for renewal of surface water withdrawal of up to 16.000 mgd (peak day) (Docket No. 19860602).

13. Project Sponsor: P.H. Glatfelter Company. Project Facility: Paper/Pulp Mill and Cogen Operations, Spring Grove Borough, York County, Pa. Application for renewal of consumptive water use of up to 0.900 mgd (peak day) (Docket No. 19860602).

14. Project Sponsor and Facility: Rausch Creek Land, L.P., Porter Township, Schuylkill County, Pa. Application for renewal of groundwater withdrawal of up to 0.100 mgd (30-day average) from Pit #21 (Docket No. 20120612).

15. Project Sponsor and Facility: Repsol Oil & Gas USA, LLC (Towanda Creek), Franklin Township, Bradford County, Pa. Application for renewal of surface water withdrawal of up to 1.000 mgd (peak day) (Docket No. 20130311).

16. Project Sponsor and Facility: Spring Township Water Authority, Spring Township, Centre County, Pa. Application for groundwater withdrawal of up to 0.499 mgd (30-day average) from Cerro Well.

17. Project Sponsor: Talen Energy Corporation. Project Facility: Royal Manchester Golf Links, East Manchester Township, York County, Pa. Minor modification to add new sources (Wells PW-1 and PW-6) to existing consumptive use approval (Docket No. 20060604). The previously approved consumptive use quantity of 0.360 mgd (peak day) will remain unchanged.

18. Project Sponsor: Talen Energy Corporation. Project Facility: Royal Manchester Golf Links, East Manchester Township, York County, Pa. Application for groundwater withdrawal of up to 0.145 mgd (30-day average) from Well PW-1.

19. Project Sponsor: Talen Energy Corporation. Project Facility: Royal Manchester Golf Links, East Manchester Township, York County, Pa. Application for groundwater withdrawal of up to 0.298 mgd (30-day average) from Well PW-6.

20. Project Sponsor and Facility: Warren Marcellus LLC (Susquehanna River), Washington Township, Wyoming County, Pa. Application for renewal of surface water withdrawal of up to 0.999 mgd (peak day) (Docket No. 20130305).

21. Project Sponsor and Facility: Village of Waverly, Tioga County, N.Y. Application for groundwater withdrawal of up to 0.320 mgd (30-day average) from Well 1.

22. Project Sponsor and Facility: Village of Waverly, Tioga County, N.Y. Application for groundwater withdrawal of up to 0.480 mgd (30-day average) from Well 2.

23. Project Sponsor and Facility: Village of Waverly, Tioga County, N.Y. Application for groundwater withdrawal of up to 0.470 mgd (30-day average) from Well 3.

Projects Scheduled for Action Involving a Diversion:

1. Project Sponsor and Facility: City of DuBois, Union Township, Clearfield County, Pa. Application for modification to the diversion from Anderson Creek Reservoir by expansion of the existing service area as a result of interconnection and bulk water supply to Falls Creek Borough Municipal Authority (Docket No. 20060304).

2. Project Sponsor: Seneca Resources Corporation. Project Facility: Impoundment 1, receiving groundwater from Seneca Resources Corporation Wells 5H and 6H and Clermont Wells 1, 2, North 2, 3, and 4, Norwich and Sergeant Townships, McKean County, Pa. Application for modification to add four additional sources (Clermont North Well 1, Clermont North Well 3, Clermont South Well 7, and Clermont South Well 10) and increase the into-basin diversion from the Ohio River Basin by an additional 1.044 mgd (peak day), for a total of up to 3.021 mgd (peak day) (Docket No. 20141216).

Opportunity to Appear and Comment: Interested parties may appear at the hearing to offer comments to the Commission on any project, request or proposal listed above. The presiding officer reserves the right to limit oral statements in the interest of time and to otherwise control the course of the hearing. Guidelines for the public hearing will be posted on the Commission's Web site, www.srbc.net, prior to the hearing for review. The presiding officer reserves the right to modify or supplement such guidelines at the hearing. Written comments on any project, request or proposal listed above may also be mailed to Mr. Jason Oyler, General Counsel, Susquehanna River Basin Commission, 4423 North Front Street, Harrisburg, Pa. 17110-1788, or submitted electronically through www.srbc.net/pubinfo/publicparticipation.htm. Comments mailed or electronically submitted must be received by the Commission on or before May 22, 2017, to be considered.

Authority: Pub. L. 91-575, 84 Stat. 1509 et seq., 18 CFR parts 806, 807, and 808.

Dated: April 6, 2017.
Stephanie L. Richardson,
Secretary to the Commission.

[FR Doc. 2017-07274 Filed 4-10-17; 8:45 am]

BILLING CODE 7040-01-P